DEPARTMENT OF JUSTICE

Notice of Lodging Proposed Consent Decree

In accordance with Departmental Policy, 28 CFR 50.7, notice is hereby given that a proposed Consent Decree in United States v. Martin Marietta Materials, Inc., Case No. 7:03-CW-122-F(1), (E.D.N.C.), was lodged with the United States District Court for the Eastern District of North Carolina on July 8, 2003. The proposed Consent Decree concerns alleged violations of sections 301(a), 402, and 404 of the Clean Water Act, 33 U.S.C. 1311(a), 1342 and 1344, resulting from Defendant's unauthorized discharge of pollutants into waters of the United States at the Leland Stone Yard which is located on the south side of US Highway 74/76, east of Malmo Loop Road, in Brunswick County, North Carolina.

The proposed Consent Decree would require the payment of a civil penalty of $30,000 and completion of site restoration activities, including the filling of ditches.

The United States Department of Justice will receive written comments relating to the proposed Consent Decree for a period of thirty (30) days from the date of publication of this notice. Comments should be addressed to Martin F. McDermott, Attorney, United States Department of Justice, Environmental Defense Section, P.O. Box 23986, Washington, DC 20026-3986, and should refer to United States v. Martin Marietta Materials, Inc., Case No. 7:03-CV-122-F(1), (E.D.N.C.).

The proposed Consent Decree may be examined at the Clerk's Office, United States District Court for the Eastern District of North Carolina, 310 New Bern Avenue, Federal Building, 5th Floor, Raleigh, North Carolina, or at the following Web site: http://www.usdoj.gov/enrd/open.html.

Stephen Samuels,
Assistant Chief, Environmental Defense Section, Environment & Natural Resources Division.

[FR Doc. 03-18770 Filed 7-23-03; 8:45 am]

BILLING CODE 4410-15-M